DEPARTMENT OF HOMELAND SECURITY

Federal Emergency Management Agency

[Docket ID FEMA-2022-0002; Internal Agency Docket No. FEMA-B-2284]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator for Risk Management (Acting), Federal Emergency Management Agency, Department of Homeland Security.

State and county | Location and case No. | Chief executive officer of community | Community map repository | Online location of letter of map revision | Date of modification | Community No.
Colorado:
Boulder | City of Lafayette (21-08-1058P) | The Honorable J.D. Mangat, Mayor, City of Lafayette, 1290 South Public Road, Lafayette, CO 80026 | City Hall, 1290 South Public Road, Lafayette, CO 80026 | https://msc.fema.gov/portal/advanceSearch | Dec. 29, 2022 | 080026
Boulder | Unincorporated areas of Boulder County (21-08-1058P) | The Honorable Matt Jones, Chair, Boulder County Board of Commissioners, P.O. Box 471, Boulder, CO 80306 | Boulder County Transportation Department, 2525 13th Street, Suite 203, Boulder, CO 80304 | https://msc.fema.gov/portal/advanceSearch | Dec. 29, 2022 | 080023
Weld | Unincorporated areas of Weld County (21-08-1198P) | The Honorable Scott James, Chair, Weld County Board of Commissioners, P.O. Box 758, Greeley, CO 80632 | Weld County Commissioner's Office, 1150 O Street, Greeley, CO 80631 | https://msc.fema.gov/portal/advanceSearch | Jan. 9, 2023 | 080266
Florida:
Lee | Unincorporated areas of Lee County (22-04-1445P) | Roger Desjarlais, Manager, Lee County, 2120 Main Street, Fort Myers, FL 33901 | Lee County Building Department, 1500 Monroe Street, Fort Myers, FL 33901 | https://msc.fema.gov/portal/advanceSearch | Jan. 5, 2023 | 125124
Manatee | Unincorporated areas of Manatee County (22-04-0251P) | Scott Hopes, Administrator, Manatee County, 1112 Manatee Avenue West, Bradenton, FL 34205 | Manatee County Development Services Department, 1112 Manatee Avenue West, Bradenton, FL 34205 | https://msc.fema.gov/portal/advanceSearch | Jan. 3, 2023 | 120153
Manatee | Unincorporated areas of Manatee County (22-04-0770P). | Scott Hopes, Manatee County Administrator, 1112 Manatee Avenue West, Bradenton, FL 34205 | Manatee County Development Services Department, 1112 Manatee Avenue West, Bradenton, FL 34205 | https://msc.fema.gov/portal/advanceSearch | Jan. 25, 2023 | 120153
Monroe | Unincorporated areas of Monroe County (22-04-3484P) | The Honorable David Rice, Mayor, Monroe County Board of Commissioners, 9400 Overseas Highway, Suite 210, Marathon, FL 33050 | Monroe County Building Department, 2798 Overseas Highway, Suite 300, Marathon, FL 33050 | https://msc.fema.gov/portal/advanceSearch | Jan. 3, 2023 | 125129
Monroe | Unincorporated areas of Monroe County (22-04-4636P) | The Honorable David Rice, Mayor, Monroe County Board of Commissioners, 9400 Overseas Highway, Suite 210, Marathon, FL 33050 | Monroe County Building Department, 2798 Overseas Highway, Suite 300, Marathon, FL 33050 | https://msc.fema.gov/portal/advanceSearch | Feb. 2, 2023 | 125129
Volusia | City of Deland (22-04-2131P) | Michael F. Pleus, Manager, City of Deland, 120 South Florida Avenue, Deland, FL 32720 | Public Services Department, 1102 South Garfield Avenue, Deland, FL 32724 | https://msc.fema.gov/portal/advanceSearch | Jan. 13, 2023 | 120307
Volusia | Unincorporated areas of Volusia County (22-04-2131P) | George Recktenwald, Manager, Volusia County, 123 West Indiana Avenue, Deland, FL 32730 | Volusia County Thomas C. Kelly Administration Center, 123 West Indiana Avenue, Deland, FL 32730 | https://msc.fema.gov/portal/advanceSearch | Jan. 13, 2023 | 125155
Idaho:
Gooding | City of Gooding (21-10-1380P) | The Honorable Diane Houser, Mayor, City of Gooding, 308 5th Avenue West, Gooding, ID 83330 | Public Works Department, 308 5th Avenue West, Gooding, ID 83330 | https://msc.fema.gov/portal/advanceSearch | Jan. 20, 2023 | 160064
Gooding | Unincorporated areas of Gooding County (21-10-1380P) | The Honorable Mark Bolduc, Chair, Gooding County Board of Commissioners, P.O. Box 417, Gooding, ID 83330 | Gooding County Planning and Zoning Department, 714 Main Street, Gooding, ID 83330 | https://msc.fema.gov/portal/advanceSearch | Jan. 20, 2023 | 160227
New Mexico: Bernalillo | City of Albuquerque (22-06-0212P) | The Honorable Timothy M. Keller, Mayor, City of Albuquerque, P.O. Box 1293, Albuquerque, NM 87103 | Planning Department, 600 2nd Street Northwest, Albuquerque, NM 87102 | https://msc.fema.gov/portal/advanceSearch | Jan. 18, 2023 | 350002
North Dakota:
Walsh | City of Grafton (21-08-0925P) | The Honorable Chris West, Mayor, City of Grafton, P.O. Box 578, Grafton, ND 58237 | City Hall, 5 East 4th Street, Grafton, ND 58237 | https://msc.fema.gov/portal/advanceSearch | Jan. 19, 2023 | 380137
Walsh | Township of Grafton (21-08-0925P) | The Honorable Lawrence Burianek, Chair, Township of Grafton, 117 Westwood Drive, Grafton, ND 58237 | Walsh County Administrative Building, 638 Cooper Avenue, Suite 2, Grafton, ND 58237 | https://msc.fema.gov/portal/advanceSearch | Jan. 19, 2023 | 380302
Walsh | Township of Oakwood (21-08-0925P) | The Honorable Mark Gourde, Chair, Township of Oakwood, 15387 County Road 11, Grafton, ND 58237 | Walsh County Administrative Building, 638 Cooper Avenue, Suite 2, Grafton, ND 58237 | https://msc.fema.gov/portal/advanceSearch | Jan. 19, 2023 | 380303
Oklahoma: Grady | City of Chickasha (22-06-1362P) | The Honorable Chris Mosley, Mayor, City of Chickasha, 117 North 4th Street, Chickasha, OK 73018 | Community Development Department, 117 North 4th Street, Chickasha, OK 73018 | https://msc.fema.gov/portal/advanceSearch | Jan. 6, 2023 | 400234
South Carolina:
Darlington | Unincorporated areas of Darlington County (22-04-2654P) | Marion C. Stewart, III, Administrator, Darlington County, 1 Public Square, Room 210, Darlington, SC 29532 | Darlington County Planning Department, 1 Public Square, Darlington, SC 29532 | https://msc.fema.gov/portal/advanceSearch | Jan. 12, 2023 | 450060
Richland | Unincorporated areas of Richland County (22-04-1306P) | The Honorable Paul Livingston, Chair, Richland County Council, 2308 Park Street, Columbia, SC 29201 | Richland County Floodplain Management Department, 2020 Hampton Street, 1st Floor, Columbia, SC 29204 | https://msc.fema.gov/portal/advanceSearch | Dec. 19, 2022 | 450170
Tennessee: Hamilton | Unincorporated areas of Hamilton County (21-04-5804P) | The Honorable Weston Wamp, Mayor, Hamilton County, 625 Georgia Avenue, Chattanooga, TN 37402 | Hamilton County Engineering Department, Development Resource Center, 1250 Market Street, Suite 3046, Chattanooga, TN 37402 | https://msc.fema.gov/portal/advanceSearch | Jan. 25, 2023 | 470071
Texas:
Bexar | City of San Antonio (21-06-3257P) | The Honorable Ron Nirenberg, Mayor, City of San Antonio, P.O. Box 839966, San Antonio, TX 78283 | Transportation and Capitol Improvements Department, Storm Water Division, 1901 South Alamo Street, 2nd Floor, San Antonio, TX 78204 | https://msc.fema.gov/portal/advanceSearch | Jan. 9, 2023 | 480045
Bexar | City of San Antonio, (22-06-1766P) | The Honorable Ron Nirenberg, Mayor, City of San Antonio, P.O. Box 839966, San Antonio, TX 78283 | Transportation and Capitol Improvements Department, Storm Water Division, 1901 South Alamo Street, 2nd Floor, San Antonio, TX 78204 | https://msc.fema.gov/portal/advanceSearch | Dec. 19, 2022 | 480045
Bexar | Unincorporated areas of Bexar County (22-06-0468P) | The Honorable Nelson W. Wolff, Bexar County Judge, 101 West Nueva Street, 10th Floor, San Antonio, TX 78205 | Bexar County Public Works Department, 1948 Probandt Street, San Antonio, TX 78214 | https://msc.fema.gov/portal/advanceSearch | Jan. 3, 2023 | 480035
Bexar | Unincorporated areas of Bexar County (22-06-1766P) | The Honorable Nelson W. Wolff, Bexar County Judge, 101 West Nueva Street, 10th Floor, San Antonio, TX 78205 | Bexar County Public Works Department, 1948 Probandt Street, San Antonio, TX 78214 | https://msc.fema.gov/portal/advanceSearch | Dec. 19, 2022 | 480035
Comal | Unincorporated areas of Comal County (22-06-0468P) | The Honorable Sherman Krause, Comal County Judge, 100 Main Plaza, New Braunfels, TX 78130 | Comal County Engineering Department, 195 David Jonas Drive, New Braunfels, TX 78132 | https://msc.fema.gov/portal/advanceSearch | Jan. 3, 2023 | 485463
Dallas | City of Garland (22-06-0786P) | The Honorable Scott LeMay, Mayor, City of Garland, P.O. Box 469002, Garland, TX 75046 | Engineering Department, 800 Main Street, 3rd Floor, Garland, TX 75040 | https://msc.fema.gov/portal/advanceSearch | Jan. 3, 2023 | 485471
Denton | City of Fort Worth (22-06-0030P) | The Honorable Mattie Parker, Mayor, City of Fort Worth, 200 Texas Street, Fort Worth, TX 76102 | Department of Transportation and Public Works, 200 Texas Street, Fort Worth, TX 76102 | https://msc.fema.gov/portal/advanceSearch | Jan. 23, 2023 | 480596
Denton | Unincorporated areas of Denton County (22-06-0030P) | The Honorable Andy Eads, Denton County Judge, 1 Courthouse Drive, Suite 3100, Denton, TX 76208 | Denton County Public Works Department, Engineering Department, 1505 East McKinney Street, Suite 175, Denton, TX 76209 | https://msc.fema.gov/portal/advanceSearch | Jan. 23, 2023 | 480774
Erath | City of Stephenville (22-06-0024P) | Jason King, Manager, City of Stephenville, 298 West Washington Street, Stephenville, TX 76401 | Department of Public Works, 298 West Washington Street, Stephenville, TX 76401 | https://msc.fema.gov/portal/advanceSearch | Jan. 17, 2023 | 480220
Tarrant | City of Benbrook, (22-06-0792P) | The Honorable Jason Ward, Mayor, City of Benbrook, 911 Winscott Road, Benbrook, TX 76126 | Department of Public Works, 8401 Laguna Palms Way, Benbrook, TX 76126 | https://msc.fema.gov/portal/advanceSearch | Feb. 2, 2023 | 480586
Virginia: Loudoun | Unincorporated areas of Loudoun County (22-03-0311P) | Tim Hemstreet, Administrator, Loudoun County, 1 Harrison Street Southeast, 5th Floor, Leesburg, VA 20175 | Loudoun County Government Center, 1 Harrison Street Southeast, 3rd Floor, Leesburg, VA 20175 | https://msc.fema.gov/portal/advanceSearch | Dec. 19, 2022 | 510090

[FR Doc. 2022-23544 Filed 10-27-22; 8:45 am]

BILLING CODE 9110-12-P